NATIONAL SCIENCE FOUNDATION

Advisory Committee for Cyberinfrastructure; Notice of Meeting

In accordance with the Federal Advisory Committee Act (Pub. L. 92-463, as amended), the National Science Foundation announces the following meeting:

Name: Advisory Committee for Cyberinfrastructure (25150).

Date and Time: June 5, 2012, 10:00 a.m.-3:00 p.m.

Place: National Science Foundation, 4201 Wilson Blvd., Rm 1295, Arlington, VA 22230m, Virtual Meeting.

Type of Meeting: Open.

Contact Person: Kristen Oberright, Office of Cyberinfrastructure (OD/OCI), National Science Foundation, 4201 Wilson Blvd., Suite 1145, Arlington, VA 22230, Telephone: 703-292-8970.

Minutes: May be obtained from the contact person listed above.

Purpose of Meeting: To advise NSF on the impact of its policies, programs and activities on the CI community. To provide advice to the Director/NSF on issues related to long-range planning.

Agenda: Discussion of Cyberinfrastructure Framework for 21st Century Science and Engineering (CIF21) programs and planning and update on OCI activities.

Dated: May 21, 2012.
Susanne Bolton,
Committee Management Officer.

[FR Doc. 2012-12609 Filed 5-23-12; 8:45 am]

BILLING CODE 7555-01-P